DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before February 13, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on January 9, 2023.
Donald P. Burger,
Chief, General Approvals and Permits Branch.

Application No. | Applicant | Regulation(s) affected | Nature of the special permits thereof
Special Permits Data—Granted
11440-M | Altivia Specialty Chemicals LLC | 172.203(a), 172.301(c), 173.227(c) | To modify the special permit to authorize additional hazardous materials.
11536-M | The Boeing Company | 172.101(j) | To modify the special permit to authorize an additional material and to authorize certain materials to exceed the quantity limitations in Column (9B) of the 172.101 Table.
14193-M | Honeywell International Inc | 172.101(h) | To modify the special permit to authorize additional portable tanks.
14492-M | Tankbouw Rootselaar B.v | 178.274(b), 178.276(a)(2), 178.276(b)(1) | To modify the special permit to explicitly authorize the transportation in commerce of ammonia.
15689-M | Cummins Inc | 172.200, 172.301(c), 177.834(h) | To modify the special permit to authorize an additional hazardous material.
20274-M | Bollore Logistics USA Inc | 172.101(j), 172.300, 172.400, 173.301, 173.302a(a)(1), 173.304a(a)(2) | To modify the special permit to reference an additional French approval.
20529-M | Texas Instruments Incorporated | 173.187 | To modify the special permit to authorize a larger UN 4H2 packaging.
20932-M | Jingjiang Asian-pacific Logistics Equipment Co., Ltd | 178.274(b)(1), 178.276(a) (2)(ii)(B), 178.276(b)(1) | To modify the special permit to authorize alternative pressure relief devices.
21300-N | Distributor Operations, Inc | 172.200, 172.300, 172.400, 173.159(e), 173.185(b)(1) | To authorize the transportation in commerce of batteries containing acid or alkali, battery acid fluid, non-spillable wet batteries, and lithium ion batteries on the same vehicle, without being subject to certain requirements of the Hazardous Materials Regulations.
21326-N | Channel Medsystems, Inc | 173.304(f)(3) | To authorize the transportation in commerce of nitrous oxide, via air, within an outer packaging that has not passed the Thermal Resistance Test.
21413-N | Western International Gas & Cylinders, Inc | 171.12, 173.303(a), 180.205 | To authorize the manufacture, mark, sale, and use of Tansport Canada (TC) or Canadian Transport Commission (CTC) cylinders not authorized for transport within the United States, for the transportation in commerce of materials authorized by this special permit.
21416-N | Paradoxical Holdings, LLC | 171.2(k), 172.200, 172.300, 172.400, 172.500, 172.600, 172.700(a) | To authorize the transportation in commerce of certain DOT 3AL, TC/3ALM and UN ISO 7866 cylinders that contain carbon dioxide, with alternative hazard communication.
21437-N | Linde Gas & Equipment Inc | 173.181(d)(1), 173.181(d)(1)(ii) | To authorize the transportation in commerce of UN3394, organometallic substance, liquid, pyrophoric, water-reactive in alternative packaging.
21438-N | Samsung SDI Co., Ltd | 172.101(j) | To authorize the transportation in commerce of lithium ion batteries exceeding 35 kg by cargo-only aircraft.
21475-N | Kavok Eir, Tov | 172.101(j), 172.204(c)(3), 173.27, 175.30(a)(1) | To authorize the transportation of forbidden explosives on aircraft.
21485-N | Walmart Inc | 172.200, 172.300, 172.400, 172.500, 173.1 | To authorize the transportation in commerce of hazardous materials to local charity organizations.
21494-N | National Air Cargo Group, Inc | 172.101(j)(1), 173.27(b)(2), 175.30(a)(1) | To authorize the transportation in commerce of certain Division 1.1 explosives that are forbidden for transportation aboard cargo-only aircraft.
Special Permits Data—Denied
21270-N | S. C. Johnson & Son, Inc | 178.33-7 | To authorize the transportation in commerce of aerosol cans whose walls do not meet minimum thickness requirements.
21331-N | Jaco, Inc | 172.200, 172.700(a) | To authorize the transportation in commerce of lithium ion batteries and lithium ion batteries contained in equipment, shipped by customers back to the manufacturer, without requiring shipping papers, emergency response information or hazmat training.
21365-N | Borgwarner Akasol Ag | 172.101(j) | To authorize the transportation in commerce of lithium batteries that exceed 35 kg net weight via cargo-only aircraft.
Special Permits Data—Withdrawn
21238-N | Target Stores, Inc | 172.315(a)(2) | To authorize the transportation in commerce of limited quantities of hazardous materials that are marked with a limited quantity marking having dimensions of 25 mm by 25 mm.

[FR Doc. 2023-00605 Filed 1-12-23; 8:45 am]

BILLING CODE 4910-60-P